DEPARTMENT OF AGRICULTURE

Animal and Plant Health Inspection Service

[Docket No. APHIS-2022-0024]

Notice of Decision To Authorize the Importation of Fresh Baby Kiwi Fruit From France Into the Continental United States

AGENCY: Animal and Plant Health Inspection Service, USDA.

ACTION: Notice.

SUMMARY: We are advising the public of our decision to authorize the importation of fresh baby kiwi fruit from France into the continental United States. Based on findings of a pest risk analysis, which we made available to the public for review and comment through a previous notice, we have determined that the application of one or more designated phytosanitary measures will be sufficient to mitigate the risks of introducing or disseminating plant pests or noxious weeds via the importation of fresh baby kiwi fruit from France.

DATES: Imports may be authorized beginning September 26, 2023.

FOR FURTHER INFORMATION CONTACT: Mr. Marc Phillips, Senior Regulatory Policy Specialist, PPQ, APHIS, USDA, 4700 River Road Unit 133, Riverdale, MD 20737; (301) 851-2114; marc.phillips@usda.gov.

SUPPLEMENTARY INFORMATION:

Background

Under the regulations in “Subpart L-Fruits and Vegetables” (7 CFR 319.56-1 through 319.56-12, referred to below as the regulations), the Animal and Plant Health Inspection Service (APHIS) prohibits or restricts the importation of fruits and vegetables into the United States from certain parts of the world to prevent plant pests from being introduced into or disseminated within the United States.

Section 319.56-4 contains a performance-based process for approving the importation of commodities that, based on the findings of a pest risk analysis (PRA), can be safely imported subject to one or more of the designated phytosanitary measures listed in paragraph (b) of that section. Under that process, APHIS proposes to authorize the importation of a fruit or vegetable into the United States if, based on findings of a PRA, we determine that the measures can mitigate the plant pest risk associated with the importation of that fruit or vegetable. APHIS then publishes a notice in the Federal Register announcing the availability of the PRA that evaluates the risks associated with the importation of a particular fruit or vegetable. Following the close of the 60-day comment period, APHIS will issue a subsequent Federal Register notice announcing whether or not we will authorize the importation of the fruit or vegetable subject to the phytosanitary measures specified in the notice.

In accordance with that process, we published a notice ¹ in the Federal Register on June 22, 2022 (87 FR 37301-37302, Docket No. APHIS-2022-0024) in which we announced the availability, for review and comment, of a PRA that evaluated the risks associated with the importation of fresh baby Kiwi fruit (Actinidia arguta) from France into the continental United States. The PRA consisted of a risk assessment identifying pests of quarantine significance that could follow the pathway of the importation of fresh baby kiwi fruit into the continental United States from France and a risk management document (RMD) identifying phytosanitary measures to be applied to that commodity to mitigate the pest risk.

¹ To view the notice and the supporting documents, go to www.regulations.gov. Enter APHIS-2022-0024 in the Search field.

We solicited comments on the notice for 60 days, ending on August 22, 2022. We received no comments by that date.

Therefore, in accordance with § 319.56-4(c)(3)(iii), we are announcing our decision to authorize the importation into the continental United States of fresh baby kiwi fruit from France subject to the phytosanitary measures identified in the RMD that accompanied the initial notice.

These conditions will be listed in the USDA, APHIS Agricultural Commodity Import Requirements (ACIR) database (https://acir.aphis.usda.gov/s/).² In addition to these specific measures, each shipment must be subject to the general requirements listed in § 319.56-3 that are applicable to the importation of all fruits and vegetables.

² On September 30, 2022, the APHIS Fruits and Vegetables Import Requirements (FAVIR) database was replaced by the ACIR database.

Paperwork Reduction Act

In accordance with the Paperwork Reduction Act of 1995 (44 U.S.C. 3501 et seq.), the recordkeeping and burden requirements associated with this action are included under the Office of Management and Budget control number 0579-0049.

E-Government Act Compliance

The Animal and Plant Health Inspection Service is committed to compliance with the E-Government Act to promote the use of the internet and other information technologies, to provide increased opportunities for citizen access to Government information and services, and for other purposes. For information pertinent to E-Government Act compliance related to this notice, please contact Mr. Joseph Moxey, APHIS' Paperwork Reduction Act Coordinator, at (301) 851-2483.

Congressional Review Act

Pursuant to the Congressional Review Act (5 U.S.C. 801 et seq.), the Office of Information and Regulatory Affairs designated this action as not a major rule, as defined by 5 U.S.C. 804(2).

Authority: 7 U.S.C. 1633, 7701-7772, and 7781-7786; 21 U.S.C. 136 and 136a; 7 CFR 2.22, 2.80, and 371.3.

Done in Washington, DC, this 21st day of September 2023.
Michael Watson,
Acting Administrator, Animal and Plant Health Inspection Service.

[FR Doc. 2023-20873 Filed 9-25-23; 8:45 am]

BILLING CODE 3410-34-P